DEPARTMENT OF COMMERCE

National Oceanic and Atmospheric Administration

RIN 0648-XG620

Mid-Atlantic Fishery Management Council (MAFMC); Public Meeting

AGENCY: National Marine Fisheries Service (NMFS), National Oceanic and Atmospheric Administration (NOAA), Commerce.

ACTION: Notice; public meeting.

SUMMARY: The Research Steering Committee of the Mid-Atlantic Fishery Management Council will hold a meeting.

DATES: The meeting will be held on Tuesday, November 27, beginning at 10 a.m. and conclude by 12 p.m. For agenda details, see SUPPLEMENTARY INFORMATION.

ADDRESSES: The meeting will be held via webinar. Details on the proposed agenda, webinar listen-in access, and briefing materials will be posted at the MAFMC's website: www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this Research Steering Committee meeting is to discuss the current state of the Collaborative Research Program, as well as make recommendations to the Council regarding future collaborative research initiatives. Agenda topics include: A review of the current program, status of Council funded research projects, future research topics and opportunities, and research set-aside.

Dated: November 6, 2018.
Tracey L. Thompson,
Acting Deputy Director, Office of Sustainable Fisheries, National Marine Fisheries Service.

[FR Doc. 2018-24600 Filed 11-8-18; 8:45 am]

BILLING CODE 3510-22-P